INTERNATIONAL TRADE COMMISSION

[Investigation Nos. 701-TA-449 and 731-TA-1118-1121 (Second Review)]

Light-Walled Rectangular Pipe and Tube From China, Korea, Mexico, and Turkey; Notice of Commission Determinations to Conduct Full Five-Year Reviews

AGENCY: United States International Trade Commission.

ACTION: Notice.

SUMMARY: The Commission hereby gives notice that it will proceed with full reviews pursuant to the Tariff Act of 1930 to determine whether revocation of the countervailing duty order on light-walled rectangular pipe and tube (“LWR pipe and tube”) from China and revocation of the antidumping duty orders on LWR pipe and tube from China, Korea, Mexico, and Turkey would be likely to lead to continuation or recurrence of material injury within a reasonably foreseeable time. A schedule for the reviews will be established and announced at a later date.

DATES: August 5, 2019.

FOR FURTHER INFORMATION CONTACT: Andres Andrade (202-205-2078), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these reviews may be viewed on the Commission's electronic docket (EDIS) at https://edis.usitc.gov. For further information concerning the conduct of these reviews and rules of general application, consult the Commission's Rules of Practice and Procedure, part 201, subparts A through E (19 CFR part 201), and part 207, subparts A, D, E, and F (19 CFR part 207).

SUPPLEMENTARY INFORMATION: On August 5, 2019, the Commission determined that it should proceed to full reviews in the subject five-year reviews pursuant to section 751(c) of the Tariff Act of 1930 (19 U.S.C. 1675(c)). The Commission found that the group responses to its notice of institution (84 FR 18577) from both the domestic interested parties and the respondent interested parties from Mexico were adequate. The Commission determined to conduct a full review of the antidumping order on LWR pipe and tube from Mexico. The Commission did not receive a response to the notice of institution from any respondent interested parties concerning the orders on subject imports from China, Korea, or Turkey in these reviews. Consequently, the Commission determined that the respondent interested party group responses from each of these subject countries were inadequate. The Commission, however, determined to conduct full reviews of the orders on LWR pipe and tube from China, Korea, and Turkey in order to promote administrative efficiency in light of the Commission's determination to conduct a full review of the order on LWR pipe and tube from Mexico.¹ A record of the Commissioners' votes, the Commission's statement on adequacy, and any individual Commissioner's statements will be available from the Office of the Secretary and at the Commission's website.

¹ Commissioner Meredith M. Broadbent did not participate in these determinations.

Authority: These reviews are being conducted under authority of title VII of the Tariff Act of 1930; this notice is published pursuant to section 207.62 of the Commission's rules.

By order of the Commission.
Issued: August 19, 2019.
Lisa Barton,
Secretary to the Commission.

[FR Doc. 2019-18171 Filed 8-22-19; 8:45 am]

BILLING CODE 7020-02-P